DEPARTMENT OF COMMERCE

International Trade Administration

[A-201-831]

Prestressed Concrete Steel Wire Strand From Mexico: Final Affirmative Determination of Circumvention of the Antidumping Duty Order; Correction

AGENCY: Enforcement and Compliance, International Trade Administration, Department of Commerce.

SUMMARY: The U.S. Department of Commerce (Commerce) published notice in the Federal Register of September 27, 2024, in which Commerce published the final determination in the circumvention inquiry of the antidumping duty (AD) order on prestressed concrete steel wire strand (PC strand) from Mexico. This notice omitted the section ordering the liquidation of entries of merchandise subject to the AD order on PC strand from Mexico as a result of the affirmative determination of circumvention.

DATES: Applicable October 29, 2024.

FOR FURTHER INFORMATION CONTACT: Jonathan Schueler, AD/CVD Operations, Office VIII, Enforcement and Compliance, International Trade Administration, U.S. Department of Commerce, 1401 Constitution Avenue NW, Washington, DC 20230; telephone: (202) 482-9175.

SUPPLEMENTARY INFORMATION:

Background

On September 27, 2024, Commerce published in the Federal Register the final determination in the circumvention inquiry for the AD order on PC strand Mexico.¹ In the Final Determination, we inadvertently omitted the “Liquidation of Entries” section announcing our intent to order the liquidation of entries of merchandise subject to the AD order on PC strand from Mexico that entered during the prior administrative review period for the AD order on PC strand from Mexico. Specifically, Commerce did not receive a request to conduct an administrative review for the AD order on PC strand from Mexico for the period from January 1, 2023, to December 31, 2023,² thus entries of subject merchandise during this period were automatically liquidated pursuant to 19 CFR 351.212(c). However, following the Preliminary Determination, Commerce instructed U.S. Customs and Border Protection (CBP) to collect cash deposits and suspend the liquidation of entries of merchandise covered by the inquiry that were entered, or withdrawn from warehouse, for consumption on or after July 31, 2023, until specific instructions for liquidation were issued.³

¹ See Prestressed Concrete Steel Wire Strand from Mexico: Final Affirmative Determination of Circumvention of the Antidumping Duty Order, 89 FR 79252 (September 27, 2024) (Final Determination), and accompanying Issues and Decision Memorandum.

² See Antidumping or Countervailing Duty Order, Finding, or Suspended Investigation; Opportunity to Request Administrative Review and Join Annual Inquiry Service List, 89 FR 63, 64 (January 2, 2024); see also Initiation of Antidumping and Countervailing Duty Administrative Reviews, 89 FR 15827 (March 5, 2024).

³ See Antidumping Duty Order on Prestressed Concrete Steel Wire Strand from Mexico: Preliminary Affirmative Determination of Circumvention, 89 FR 22668 (April 2, 2024) (Preliminary Determination), and accompanying Preliminary Decision Memorandum.

Correction

In the Federal Register of September 27, 2024, in FR Doc 2024-22113, on page 79253, in the third column, correct the text by adding the following section below the “Final Circumvention Determination” section:

Liquidation of Entries

For all entries of merchandise subject to the AD order on PC strand from Mexico, entered or withdrawn from warehouse for consumption on or before December 31, 2023, Commerce intends to instruct U.S. Customs and Border Protection (CBP) to liquidate those entries at the applicable AD rates for those entries.⁴

⁴ Commerce is not conducting an administrative review of the AD order on PC strand from Mexico for the period ending on December 31, 2023. Therefore, Commerce will instruct CBP to liquidate all entries through the end of the last administrative review period.

Commerce intends to issue liquidation instructions to CBP no earlier than 41 days after the date of publication of this notice in the Federal Register. If a timely notice of intent to contest this final determination is filed at the U.S. Court of International Trade, the assessment instructions will direct CBP not to liquidate relevant entries until the time for parties to file a request for a statutory injunction has expired (i.e., within 90 days of publication).

Notification to Interested Parties

This notice is issued and published in accordance with section 781(a) of the Act and 19 CFR 351.226(g)(2).

Dated: October 23, 2024.
Ryan Majerus,
Deputy Assistant Secretary for Policy and Negotiations, performing the non-exclusive functions and duties of the Assistant Secretary for Enforcement and Compliance.

[FR Doc. 2024-25075 Filed 10-28-24; 8:45 am]

BILLING CODE 3510-DS-P